NUCLEAR REGULATORY COMMISSION

Sunshine Federal Register Notice

Agency Holding the Meetings: Nuclear Regulatory Commission.

Dates: Weeks of April 14, 21, 28, May 5, 12, 19, 2008.

Place: Commissioners' Conference Room, 11555 Rockville Pike, Rockville, Maryland.

Status: Public and Closed.

Week of April 14, 2008

There are no meetings scheduled for the Week of April 14, 2008.

Week of April 21, 2008—Tentative

There are no meetings scheduled for the Week of April 21, 2008.

Week of April 28, 2008—Tentative

Monday, April 28, 2008

9:30 a.m.

Briefing on Reactor Materials Issues (Public Meeting). (Contact: Ted Sullivan, 301 415-2796.)

This meeting will be webcast live at the Web address— http://www.nrc.gov.

Tuesday, April 29, 2008

9:30 a.m.

Discussion of Management Issues (Closed—Ex. 2).

1:25 p.m.

Affirmation Session (Public Meeting) (Tentative).

a. AmerGen Energy Company, LLC (License Renewal for Oyster Creek Nuclear Generating Station), Docket No. 50-219-LR, Citizens' Petition for Review of LBP-07-17 and Other Interlocutory Decisions in the Oyster Creek Proceeding (Tentative).

b. Oyster Creek, Indian Point, Pilgrim, and Vermont Yankee License Renewals, Docket Nos. 50-219-LR, 50-247-LR, 50-286-LR, 50-293-LR, 50-271-LR, Petition to Suspend Proceedings (Tentative).

This meeting will be webcast live at the Web address— http://www.nrc.gov.

1:30 p.m.

Meeting with Advisory Committee on the Medical Uses of Isotopes (Public Meeting). (Contact: Ashley Tull, 918-488-0552.)

This meeting will be webcast live at the Web address— http://www.nrc.gov.

Wednesday, April 30, 2008

9:30 a.m.

Briefing on Materials Licensing and Security (Public Meeting). (Contact: Tomas Herrera, 301-415-7138.)

This meeting will be webcast live at the Web address— http://www.nrc.gov.

1:30 p.m.

Periodic Briefing on New Reactor Issues (Public Meeting). (Contact: Robert Schaaf, 301-415-1312.)

This meeting will be webcast live at the Web address— http://www.nrc.gov.

Week of May 5, 2008—Tentative

There are no meetings scheduled for the Week of May 5, 2008.

Week of May 12, 2008—Tentative

Friday, May 16, 2008

9 a.m.

Briefing on NRC Infrastructure (Public Meeting.) (Contact: Peter Rabideau, 301 415-7323.)

This meeting will be webcast live at the Web address— http://www.nrc.gov.

Week of May 19, 2008—Tentative

There are no meetings scheduled for the Week of May 19, 2008.

*The schedule for Commission meetings is subject to change on short notice. To verify the status of meetings, call (recording)—(301) 415-1292. Contact person for more information: Michelle Schroll, (301) 415-1662.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 10, 2008.
R. Michelle Schroll,
Office of the Secretary.

[FR Doc. 08-1134 Filed 4-11-08; 11:20 am]

BILLING CODE 7590-01-P